DEPARTMENT OF THE INTERIOR

National Park Service

[NPS-WASO-NAGPRA-NPS0022684; PPWOCRADN0-PCU00RP14.R50000]

Notice of Inventory Completion: U.S. Fish and Wildlife Service, Alaska Region, Anchorage, AK

AGENCY: National Park Service, Interior.

ACTION: Notice.

SUMMARY: The U.S. Fish and Wildlife Service (USFWS), Alaska Region, has completed an inventory of human remains and associated funerary objects, in consultation with the appropriate Indian tribes or Native Hawaiian organizations, and has determined that there is a cultural affiliation between the human remains and associated funerary objects and present-day Indian tribes or Native Hawaiian organization. Lineal descendants or representatives of any Indian tribe or Native Hawaiian organization, not identified in this notice that wish to request transfer of control of these human remains and associated funerary objects should submit a written request to the Alaska Region USFWS. If no additional requestors come forward, transfer of control of the human remains and associated funerary objects to the lineal descendants, Indian tribes, or Native Hawaiian organizations stated in this notice may proceed.

DATES: Lineal descendants or representatives of any Indian tribes or Native Hawaiian organizations, not identified in this notice that wish to request transfer of control of these human remains and associated funerary objects should submit a written request with information in support of the request to the Alaska Region USFWS at the address in this notice by March 27, 2017.

ADDRESSES: Edward J. DeCleva, Regional Historic Preservation Officer, U.S. Fish and Wildlife Service, Alaska Region, 1011 East Tudor Road, MS-235, Anchorage, AK 99503, telephone (907) 786-3399, email Edward_decleva@fws.gov.

SUPPLEMENTARY INFORMATION: Notice is here given in accordance with the Native American Graves Protection and Repatriation Act (NAGPRA), 25 U.S.C. 3003, of the completion of an inventory of human remains and associated funerary objects under the control of the Alaska Region USFWS. The human remains and associated funerary objects were removed from site MT-1, Mikisagmiut Bay, Nunivak Island, AK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Alaska Region USFWS professional staff in consultation with representatives of the Native Village of Mekoryuk, the NIMA Corporation, and the Calista Corporation.

History and Description of the Remains

In 1973, human remains representing, at minimum, one individual were removed from site MT-1 (now known as site 49-XNI-032), Mikisagmiut Bay, Nunivak Island, AK, during excavations by University of Oregon archeologists. No known individuals were identified. The seven associated funerary objects include one awl, one bone tube, two shaped bones, one ivory labret, one plain gravel-tempered potsherd, and one bone line shuttle or sled runner.

Nunivak Island is traditional territory of the Central-Yup'ik-speaking Nunivak Eskimo or Nuniwarmiut people. Oral tradition and archeological investigations indicate that Nunivak Island was peopled at least 2600 years ago and most likely continuously occupied by descendants of the initial population. The nature of the funerary artifacts suggests a late prehistoric age for the burials. The human remains are thought to represent a woman, most likely a young adult. The human remains and associated artifacts were transferred to the University of Oregon Museum of Natural and Cultural History in 2005 by the archeologist responsible for collecting them.

Determinations Made by the Alaska Region USFWS

Officials of the Alaska Region USFWS have determined that:

• Pursuant to 25 U.S.C. 3001(9), the human remains described in this notice represent the physical remains of one individual of Native American ancestry.

• Pursuant to 25 U.S.C. 3001(3)(A), the seven objects described in this notice are reasonably believed to have been placed with or near individual human remains at the time of death or later as part of the death rite or ceremony.

• Pursuant to 25 U.S.C. 3001(2), there is a relationship of shared group identity that can be reasonably traced between the Native American human remains and associated funerary objects and the Nuniwarmiut people of Alaska and Native Village of Mekoryuk.

Additional Requestors and Disposition

Lineal descendants or representatives of any Indian tribe or Native Hawaiian organization not identified in this notice that wishes to request transfer of control of these human remains and associated funerary objects should submit a written request with information in support of the request to Edward DeCleva, Regional Historic Preservation Officer, U.S. Fish and Wildlife Service, Alaska Region, 1011 East Tudor Road, MS-235, Anchorage, AK 99503, telephone (907) 786-3399, email edward_decleva@fws.gov, by March 27, 2017. After that date, if no additional requestors have come forward, transfer of control of the human remains and associated funerary objects to the Nuniwarmiut people and Native Village of Mekoryuk may proceed.

Alaska Region USFWS is responsible for notifying the Nuniwarmiut people and Native Village of Mekoryuk that this notice has been published.

Dated: January 6, 2017
Melanie O'Brien,
Manager, National NAGPRA Program.

[FR Doc. 2017-03608 Filed 2-23-17; 8:45 am]

BILLING CODE 4312-52-P